DEPARTMENT OF AGRICULTURE

Animal and Plant Health Inspection Service

[Docket No. 01-012-1]

Living Genetically Modified Organisms and Invasive Species; Public Meeting

AGENCY: Animal and Plant Health Inspection Service, USDA.

ACTION: Notice of public meeting.

SUMMARY: This is to notify interested persons that the Animal and Plant Health Inspection Service will hold a public meeting to provide a forum for discussion on the recommendation for the development of two standards to address the issues of living genetically modified organisms and invasive species under the International Plant Protection Convention, recognized by the World Trade Organization Agreement on the Application of Sanitary and Phytosanitary Measures as the international standard-setting body for phytosanitary standards.

DATES: The public meeting will be held on Thursday, March 8, 2001, from 10 a.m. to 11:30 a.m.

ADDRESSES: The public meeting will be held at the USDA Center, Second Floor, Training Rooms 1 and 2, 4700 River Road, Riverdale, MD.

FOR FURTHER INFORMATION CONTACT: For information about the meeting, contact Dr. Cathleen Enright, Director, Biotechnology, APHIS/PPQ/PIM, 4700 Riverdale Road Unit 140, Riverdale, MD 20737; (301)734-5342; or Mr. Narcy Klag, Director, International Standards Management/NAPPO, APHIS/PPQ/PIM, 4700 Riverdale Road Unit 140, Riverdale, MD 20737; (301) 734-8469.

SUPPLEMENTARY INFORMATION: As a result of the 1997 text revision of the International Plant Protection Convention (IPPC), the Interim Commission on Phytosanitary Measures (ICPM) was established in 1998 to serve as the engine for developing international phytosanitary standards as well as promoting other basic objectives of the IPPC until the revised IPPC officially comes into force. The ICPM was prompted to address living genetically modified organisms (LMO's) and invasive species specifically as a result of IPPC member country requests for further guidance on evaluating the organisms as potential plant pests. At present, the guidance provided under the IPPC for these issues is limited. An IPPC working group on genetically modified organisms and invasive species met in June, 2000, and drafted recommendations for new standards to be developed to address these issues. The working group will forward these recommendations to the April 2001 meeting of the ICPM for adoption.

The United States Government is a member of the IPPC, and the Animal and Plant Health Inspection Service (APHIS) of the United States Department of Agriculture has the lead in IPPC matters within the United States. Therefore, APHIS is giving notice of a public meeting to allow anyone, especially those who are interested in biotechnology and invasive species issues, an opportunity to present their views on the recommendations and to exchange information among themselves and with APHIS regarding the IPPC recommendations. The two standards proposed for development in the recommendations are:

(1) To address the plant pest risks associated with LMO's; and

(2) To address the environmental effects of quarantine pests, including quarantine pests that are invasive.

This public meeting is scheduled for Thursday, March 8, 2001. The public meeting will begin at 10 a.m. and is scheduled to end at 11:30 a.m. Those wishing to speak at the meeting should register on or before March 5, 2001. To register to speak, please e-mail cathleen.a.enright@aphis.usda.gov or send a fax to Dr. Cathleen Enright at 301-734-7639. Registrants should include their name, address, and telephone number. Speakers are welcome, but not required, to submit written copies of comments by e-mail at the address listed above. Depending on the number of registered speakers, time limits may be imposed on speakers, and speakers who have registered in advance will be given priority if time is limited. The meeting will be recorded, and information about obtaining a transcript will be provided at the meeting.

If you require special accommodations, such as a sign language interpreter, please contact the persons listed under FOR FURTHER INFORMATION CONTACT.

Parking and Security Procedures

Please note that a fee of $2 is required to enter the parking lot at the USDA Center. The machine accepts $1 bills or quarters.

Upon entering the building, visitors should inform security personnel that they are attending the Living Genetically Modified Organisms public meeting. Identification is required. Security personnel will direct visitors to the registration tables located outside of Training Rooms 1 and 2 on the second floor. Registration upon arrival is necessary for all participants, including those who have registered to speak in advance. Visitor badges must be worn throughout the day.

Further information regarding the meeting and registration instructions may be obtained from the persons listed under FOR FURTHER INFORMATION CONTACT.

Done in Washington, DC, this 14th day of February 2001.
Bobby R. Acord,
Acting Administrator, Animal and Plant Health Inspection Service.

[FR Doc. 01-4143 Filed 2-16-01; 8:45 am]

BILLING CODE 3410-34-U